NATIONAL SCIENCE FOUNDATION

Notice of Permit Applications Received Under the Antarctic Conservation Act of 1978

AGENCY: National Science Foundation.

ACTION: Notice of Permit Applications Received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by October 28, 2015. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Li Ling Hamady, ACA Permit Officer, at the above address or ACApermits@nsf.gov or (703) 292-7149.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2016-013

1. Applicant, Michael J. Polito, Department of Oceanography and Coastal Sciences, Louisiana State University, 1002-Y Energy, Coast & Environment Building, Baton Rouge, LA 70803

Activity for Which Permit Is Requested

Take, ASPA, Import, Export; The applicant intends to opportunistically collect sediments and organic remains from around active & abandoned penguin colonies, and to obtain body and tail feathers from gentoo, chinstrap, and Adélie penguins from breeding sites in the South Orkneys, South Shetland, and Antarctic Peninsula regions, Ross Sea and Victoria Land Coast, vicinity of McMurdo Station, and East Antarctica. Access to these sites will be by foot, zodiac, helicopter, Twin Otter and other vessels including commercial tour ships. These samples will be used to help interpret decadal and millennial-scale shifts in the diets and population movements of Antarctic krill predators in concert with climate variability and commercial harvesting. For each species, up to 3 colonies per year will be sampled with up to 20 individuals (adults or chicks) sampled per colony. Samples will be sent back to the USA and the UK for analysis.

Location

South Orkneys, South Shetland and Antarctic Peninsula regions, Ross Sea and Victoria Land Coast, vicinity of McMurdo Station, East Antarctica. Sites will be on an opportunistic basis and may include some of the following ASPAs: 102, Rookery Islands, Holme Bay; 103, Ardrey Island and Odbert Island; 104, Sabrina Island, Balleny Islands; 105, Beaufort Island, Ross Sea; 106, Cape Hallett, Victoria Land; 107, Dion Islands, Marguerite Bay; 108, Green Island, Berthelot Islands; 109, Moe Island, South Orkney Islands; 110, Lynch Island, South Orkney Islands; 111, Southern Powell Island and adjacent islands, South Orkney Island; 112, Coppermine Peninsula, Robert Island; 113, Litchfield Island, Arthur Harbor, Palmer Archipelago; 114, North Coronation Island, South Orkney Islands; 115, Lagotellerie Island, Marguerite Bay; 116, “New College Valley”, Caughley Beach, Cape Bird, Ross Island; 117, Avian Island, Northwest Marguerite Bay; 121, Cape Royds, Ross Island; 124, Cape Crozier, Ross Island; 125, Fildes Peninsula, King George Island, South Shetland Islands; 126, Byers Peninsula, Livingston Island; 127, Haswell Island; 128, Western Shore of Admiralty Bay, King George Island; 129, Rothera Point, Adelaide Island; 132, Potter Peninsula, King George Island; 133, Harmony Point, Nelson Island; 134, Cierva Point offshore islands, Danco Coast; 135, North-East Bailey Peninsula, Budd Coast, Wilkes Land; 136, Clark Peninsula, Budd Coast, Wilkes Land; 139, Biscoe Point, Anvers Island; 149, Cape Shirreff, Livingston Island; 150, Ardley Island, Maxwell Bay, King George Island; 159, Cape Adare; 160, Frazier Island, Wilkes Land; and 171, Narebski Point, Barton Peninsula, King George Island

Dates

December 1, 2015-August 31, 2019.

Nadene G. Kennedy,
Polar Coordination Specialist, Division of Polar Programs.

[FR Doc. 2015-24522 Filed 9-25-15; 8:45 am]

BILLING CODE 7555-01-P